DEPARTMENT OF LABOR

Bureau of Labor Statistics

Technical Advisory Committee; Notice of Meeting and Agenda

The Bureau of Labor Statistics Technical Advisory Committee will meet on Friday, June 17, 2015. The meeting will be held in the Postal Square Building, 2 Massachusetts Avenue NE., Washington, DC.

The Committee provides advice and makes recommendations to the Bureau of Labor Statistics (BLS) on technical aspects of the collection and formulation of economic measures. The BLS presents issues and then draws on the expertise of Committee members representing specialized fields within the academic disciplines of economics, statistics and survey design.

The meeting will be held in rooms 1-3 of the Postal Square Building Conference Center. The schedule and agenda for the meeting are as follows:

8:30 a.m. Commissioner's welcome and review of agency developments.

9:00 a.m. Designing a survey to collect data on occupational injuries and illnesses from households.

10:45 a.m. How often do the requirements of jobs change?

2:00 p.m. Education and training requirement for occupations.

4:00 p.m. Approximate conclusion.

The meeting is open to the public. Any questions concerning the meeting should be directed to Sarah Dale, Bureau of Labor Statistics Technical Advisory Committee, on 202-691-5643. Individuals who require special accommodations should contact Ms. Dale at least two days prior to the meeting date.

Signed at Washington, DC, this 3rd day of May 2016.
Kimberly D. Hill,
Chief, Division of Management Systems, Bureau of Labor Statistics.

[FR Doc. 2016-10681 Filed 5-5-16; 8:45 am]

BILLING CODE 4510-24-P